ENVIRONMENTAL PROTECTION AGENCY

[OPA-2003-0001; FRL-7611-9]

Agency Information Collection Activities; Submission to OMB for Review and Approval; Comment Request; National Oil and Hazardous Substances Pollution Contingency Plan Regulation, Subpart J, EPA ICR Number 1664.05, OMB Control Number 2050-0141

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2004. Under OMB regulations, the Agency may continue to conduct or sponsor the collection of information while this submission is pending at OMB. This ICR describes the nature of the information collection and its estimated burden and cost.

DATES: Additional comments may be submitted on or before February 23, 2004.

ADDRESSES: Submit your comments, referencing docket ID number OPA-2003-0001, to (1) EPA online using EDOCKET (our preferred method), by e-mail to superfund.docket@epa.gov, or by mail to: EPA Docket Center, Environmental Protection Agency, SUPERFUND Docket (5202T), 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: William “Nick” Nichols, Oil Program, Office of Emergency Prevention, Preparedness, and Response (OEPPR) (5203G), Environmental Protection Agency, 1200 Pennsylvania Ave., NW., Washington, DC 20460; telephone number: (703) 603-9918; fax number: (703) 603-9116; e-mail address: nichols.nick@epa.gov.

SUPPLEMENTARY INFORMATION: EPA has submitted the following ICR to OMB for review and approval according to the procedures prescribed in 5 CFR 1320.12. On July 7, 2003 (68 FR 40262), EPA sought comments on this ICR pursuant to 5 CFR 1320.8(d). EPA has addressed the comment received.

EPA has established a public docket for this ICR under Docket ID No. OPA-2003-0001, which is available for public viewing at the Office of Emergency Prevention, Preparedness, and Response Oil Program Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Emergency Prevention, Preparedness, and Response Oil Program Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: National Oil and Hazardous Substances Pollution Contingency Plan Regulation, Subpart J.

Abstract: Subpart J of the NCP allows and regulates the use of chemical and biological oil spill cleanup and control agents. The information collected is supplied by the manufacturer of such products. This information and data are then analyzed by EPA to determine the appropriateness, and under which category, the product may be listed on the NCP Product Schedule. This product data is critical for EPA to obtain in order to assure that effectiveness and toxicity data for these products is available to the oil spill community in order to use them legally and effectively. Responses to the collection of information are mandatory if EPA determines that the products specifications require its listing under subpart J (40 CFR 300.5a Definitions). However, manufacturers volunteer to have their product analyzed. The authority to review and use a product is 40 CFR 300.910. Confidentiality of data, ingredients, and other proprietary information for the products is maintained by EPA. Manufacturers may use any certified lab in the U.S. to test their product's effectiveness and toxicity. The cost of such tests range from $1,200 to $15,000 per test. The process to have a product listed takes at least 30 days, but no longer than 60 days, depending on the accuracy and completeness of the product information package provided to EPA by the manufacturer. Due to the technical and graphical data required to be listed, electronic submissions are not accepted.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average between 13.4 and 40 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are those which manufacture, sell, distribute and/or use oil spill dispersants, other chemicals, and other spill mitigating devices and substances that may be used in carrying out the NCP, as listed in 40 CFR 300.900 on land or waters of the United States.

Estimated Number of Respondents: 14.

Frequency of Response: Respondents must submit information only when they apply to list a new product on the Schedule, or when the composition, formulation, application, or contact information of a product currently listed on the Schedule is changed.

Estimated Total Annual Hour Burden: 390.

Estimated Total Annual Cost: $95,558, includes $82,800 annualized capital, $0 O&M costs, and $12,758 labor costs.

Changes in the Estimates: There is a decrease of 436 hours in the total estimated burden currently identified in the OMB Inventory of Approved ICR Burdens. This decrease is due to the following three adjustments to the estimates: (1) Manufacturers will apply to list 14 new oil spill mitigating agents on the Schedule per year over a three-year period versus an estimated 28 per year during the three-year period of the current ICR; (2) a decrease in the number of sorbent manufacturer certification requests per year (from 20 to 10); and (3) a decrease in the burden estimate per sorbent manufacturer respondent (from 5 to 3 hours).

Dated: January 7, 2004.
Doreen Sterling,
Acting Director, Collection Strategies Division.

[FR Doc. 04-1236 Filed 1-21-04; 8:45 am]

BILLING CODE 6560-50-P